DEPARTMENT OF AGRICULTURE

Food and Nutrition Service

Request for Information: Summer Meal Programs Data Reporting Requirements

AGENCY: Food and Nutrition Service, USDA.

ACTION: Notice; request for information.

SUMMARY: The purpose of this Request for Information is to help the Food and Nutrition Service (FNS) better understand what sponsors and State agencies could regularly report to FNS to more adequately track participation in the summer meal programs. The current data reporting system for sponsors and State agencies was designed primarily to process meal claims and not to track program participation. FNS is interested in modifying the current reporting system to better identify the number of eligible children the programs are serving and assess the impacts of efforts to increase program participation. In order to develop proposed changes to reporting requirements, FNS is seeking information from all affected parties regarding current State agency and sponsor data reporting requirements. Specifically, FNS is interested in information about data that sites, sponsors, and State agencies currently collect but do not report to FNS, as well as the feasibility of obtaining currently reported data in a timelier manner. FNS is particularly interested in the opportunities and challenges associated with these changes.

DATES: To be assured of consideration, written information must be submitted or postmarked on or before June 8, 2015.

ADDRESSES: The Food and Nutrition Service, USDA, invites the submission of the requested information through one of the following methods:

• Preferred method: Submit information through the Federal eRulemaking Portal at http://www.regulations.gov. Follow the online instructions for submissions.

• Mail: Submissions should be addressed to Mandana Yousefi, Program Analyst, Child Nutrition Programs, Food and Nutrition Service, P.O. Box 66740, Saint Louis, MO 63166-6740.

All information properly and timely submitted, using one of the two methods described above, in response to this request for information will be included in the record and will be made available to the public on the internet at http://www.regulations.gov. Please be advised that the substance of the information provided and the identity of the individuals or entities submitting it will be subject to public disclosure.

FOR FURTHER INFORMATION CONTACT: Mandana Yousefi, Program Analyst, Child Nutrition Programs, Food and Nutrition Service, at 703-305-2590.

SUPPLEMENTARY INFORMATION: The Food and Nutrition Service's (FNS) summer meal programs play a critical role in ensuring that America's children have access to nutritious food. The summer meal programs include meals served to children during the summer through either the Summer Food Service Program (SFSP) or the National School Lunch Program (NSLP) and School Breakfast Program (SBP). The SFSP is a Federal program, administered by State agencies, and operated locally by approved sponsors who provide free meals to children in low-income areas when school is not in session. Schools may provide meals to eligible children during the summer through either the SFSP or the NSLP and SBP. Schools that serve children meals during the summer through the NSLP and SBP can choose to only serve meals to children enrolled in summer school or utilize the Seamless Summer Option to provide meals to children in the general community.

The current data reporting system for sponsors and State agencies was designed primarily to process meal claims and not to track program participation. FNS is interested in modifying the current reporting system to better identify the number of eligible children the programs are serving and assess the impacts of efforts to increase program participation.

In addition to increasing the utility and accuracy of summer meal program data collection, FNS is also interested in ensuring that data is collected and reported to FNS in a timely manner. Although anecdotal information is collected during program operations, the current data reporting timeline does not provide FNS with accurate program participation information until several months after the programs are completed. Receiving more timely data would help FNS in its efforts to improve program access. FNS recognizes that because many State operating systems are more technologically advanced than when reporting requirements were first implemented, changes to improve the timeliness and utility of reporting requirements may be possible without imposing significant additional burden on sponsors or State agencies.

In order to assess FNS efforts to increase access to the summer meal programs, FNS would like to reexamine the current sponsor and State agency reporting requirements for meal claims and participation data, and the timeline for submitting this information. FNS is interested in obtaining feedback about the reporting requirements for the SFSP and for meals served during the summer through the NSLP and SBP.

In accordance with SFSP regulations at 7 CFR part 225, sponsors currently submit monthly claims to their State administering agencies to receive reimbursement. These are due within 60 days following the claim month. State agencies are required to submit data on SFSP participation using the FNS-418—Report of the Summer Food Service Program for Children—30 and 90 days following the month being reported.

Schools that provide summer meals to eligible children through the NSLP and SBP submit claims to the State agency using the same process as that used during the regular school year. State agencies report participation data on a monthly basis using the form FNS-10—Report of School Program Operations. This is the same form submitted by schools providing NSLP and SBP meals during the school year.

FNS' objective with this Request for Information is to receive input from a broad spectrum of parties that may be affected by changes to reporting requirements. These include site supervisors, sponsors, school food authorities, State agency officials, summer partners, and the general public. We are especially interested in current reporting and data collection purposes, methods, and outcomes used by State agencies, sponsors, and sites, which are in addition to those required for completing and submitting FNS-10 and FNS-418. Finally, FNS has an interest in working with sponsors and State agencies to collect data in a more comprehensive, timely manner while also minimizing additional reporting burden.

FNS intends to use the information it receives to propose modifications to the current reporting requirements. Information submitted will help FNS to modify the FNS-418 and FNS-10 to receive more concrete data at an earlier stage in the reporting process. FNS expects such changes to also require amendments to Program regulations.

To assist in the development of these changes, FNS is seeking input regarding the following questions. FNS welcomes comments to all questions below.

Summer Food Service Program Reporting

1. In order to more quickly assess participation during the summer, would it be possible for sponsors to submit meal claims fewer than 60 days from the month being claimed?

a. Would it be possible for them to submit meal claims within 30 days of the close of the claim month?

b. Would reducing this time frame impact the accuracy of the claims submitted? Please explain.

c. What challenges would arise due to a reduced submission period?

d. What additional technology and guidance would be required for State agencies and sponsors to comply with new timeframes?

2. On average, what percentage of final meal claims have been modified annually since the initial claim? Are modified final meal claims usually higher or lower than the initial claims?

a. How often are meal claims revised?

b. Why are meal claims revised?

c. How often do sponsors appeal State imposed meal claim disallowances? What are the outcomes of these appeals?

3. a. How accurate is the data for meals served which is submitted by the State agency in the 30-day report when compared with the subsequent 90-day report?

b. What accounts for the difference in actual (versus estimated) meals served between the 30-day and 90-day reports?

4. The FNS-418 only requires State agencies to report the number of sponsors, the number of sites, and the average daily attendance (ADA) of sponsors for the month of July.

a. Would it be feasible for States to report this for every month during the summer?

b. How much time would States need to report this to FNS after each month?

5. FNS currently collects the ADA of sponsors, which is calculated as the total number of meals served in a sponsor's primary meal service during the claim period divided by the number of operating or meal service days for that claim period.

a. Is this an effective method for calculating ADA?

b. Is the current reporting of ADA accurate at the sponsor and/or State level?

c. How could ADA be calculated more accurately?

6. FNS is interested in tracking the number of unique children that participate in the SFSP each day. Do you have any suggestions for how this information could be captured and reported?

7. FNS is interested in tracking the number of meals served through rural sites. Would it be feasible to separate “self-prep” meals served from “rural” meals served on the FNS-418?

8. In your State, do sponsors submit meal claims electronically or manually?

9. Are there any data that sponsors or State agencies currently collect that are not reported to FNS?

a. If yes, please describe these data and how they are used.

b. Would sponsors and State agencies be able to regularly report these data to FNS?

10. What are the best indicators or data elements to track changes to program participation from the previous summer?

11. Please provide any additional information that would assist FNS with understanding State agency and sponsor administrative capacities, and how to enhance the quality and utility of the data collected while also minimizing any additional reporting burden.

National School Lunch Program and School Breakfast Program Summer Meal Reporting

Seamless Summer Option

1. Are schools able to easily separate the meal claims for children served during the regular school year and children served through the Seamless Summer Option? Could these meals be separately tracked on the FNS-10?

2. Are there any State agency concerns about separately reporting meals served to children through the Seamless Summer Option?

3. Please provide any additional information that would assist FNS with understanding State agency and school administrative capacities, and how to enhance the quality and utility of the data collected while also minimizing the reporting burden. FNS is particularly interested in receiving feedback from State agencies that already separately track meals served through the Seamless Summer Option from those served through NSLP during the traditional school year.

Serving Meals to Children Enrolled in Summer School

1. For schools that do not participate in the SFSP or the Seamless Summer Option, but serve meals to children enrolled in summer school through the NSLP and SBP, would it be feasible to separately report the meals served to these children? Could these meals be separately tracked on the FNS-10?

2. Please provide any additional information that would assist FNS with understanding State agency and school administrative capacities, and how to enhance the quality and utility of the data collected while also minimizing any additional reporting burden.

FNS appreciates your thoughtful and responsive comments.

Dated: February 24, 2015.
Audrey Rowe,
Administrator, Food and Nutrition Service.

[FR Doc. 2015-05314 Filed 3-6-15; 8:45 am]

BILLING CODE 3410-30-P